DEPARTMENT OF AGRICULTURE

Submission for OMB Review; Comment Request

March 20, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Arctic National Wildlife Refuge Visitor Study.

OMB Control Number: 0596-NEW.

Summary of Collection: The Wilderness Act of 1964 directs that the National Wilderness Preservation System be managed to protect natural wilderness conditions and to provide outstanding opportunities for the public to find solitude or primitive and unconfined types of recreational experiences. To help meet Federal agencies' mandates related to recreation, scientists at the Aldo Leopold Wilderness Research Institute periodically monitor and report to mangers and the public, visitor use and user characteristics and visitor feedback on management actions on federal lands, including National Wildlife Refuges.

Need and Use of the Information: This study will only ask recreation visitors questions about their recreation visit, their personal demographics relevant to education and service provision, and factors that have influenced or are likely to influence their recreation visits. Agency personnel will use the collected information to ensure that visitors' recreational activities do not harm the natural resources of the refuge and that wilderness-type recreation experiences are protected. The information it provides will also be used to inform the Refuge's upcoming Comprehensive Conservation Plan revision and in the development of its Wilderness Stewardship and Public Use Management Plans.

Description of Respondents: Individuals or households.

Number of Respondents: 1,000.

Frequency of Responses: Reporting: Annually.

Total Burden Hours: 140.

Charlene Parker,
Departmental Information Collection Clearance Officer.

[FR Doc. E8-5982 Filed 3-24-08; 8:45 am]

BILLING CODE 3410-11-P